DEPARTMENT OF JUSTICE

Notice of Proposed Settlement Agreement Under the National Marine Sanctuaries Act

Notice is hereby given that the U.S. Department of Justice, on behalf of the U.S. Department of Commerce, National Oceanic and Atmospheric Administration, has reached a Settlement Agreement with Dennis W. McGuire regarding claims for response costs and damages under the National Marine Sanctuaries Act, 16 U.S.C. 1443(a). The Florida Department of Environmental Protection, on behalf of the Board of Trustees of the Internal Improvement Trust Fund of the State of Florida, joins the settlement and resolves its claims under Section 253.04, Florida Statutes.

The United States' claims arise from the grounding of the vessel M/V Freedom in the Florida Keys National Marine Sanctuary on July 12, 2009. The grounding injured Sanctuary resources. Pursuant to the Agreement, the United States will recover a total of $540,000.

The publication of this notice opens a period for public comment on the Settlement Agreement. Comments should be addressed to the Assistant Attorney General, Environment and Natural Resources Division, and should refer to the Settlement Agreement between the United States and Dennis McGuire, DJ No. 90-5-1-1-10016. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the proposed Settlement Agreement may be examined and downloaded at this Justice Department Web site: http://www.usdoj.gov/enrd/Consent_Decrees.html. We will provide a paper copy of the Settlement Agreement upon written request and payment of reproduction costs. Please mail your request and payment to: Consent Decree Library, U.S. DOJ—ENRD, P.O. Box 7611, Washington, DC 20044-7611.

Please enclose a check or money order for $2.25 (25 cents per page reproduction cost) payable to the United States Treasury.

During the public comment period, the proposed Settlement Agreement may also be examined at: Florida Keys National Marine Sanctuary, Nancy Foster Florida Keys Environmental Complex, Main Office, 33 East Quay Road, Key West, FL 33040.

Henry S. Friedman,
Assistant Section Chief, Environmental Enforcement Section, Environment and Natural Resources Division.

[FR Doc. 2012-29071 Filed 11-30-12; 8:45 am]

BILLING CODE 4410-15-P